DEPARTMENT OF THE INTERIOR

Bureau of Land Management

[ES-930-5420-FR-M131; ARES 54992]

Notice of Application for Recordable Disclaimer of Interest in Lands; Searcy County, Arkansas

AGENCY: Bureau of Land Management, Interior.

ACTION: Notice.

SUMMARY: An application has been filed with the Bureau of Land Management (BLM) by Robert G. Hooper for a Recordable Disclaimer of Interest from the United States for certain land in Searcy County, Arkansas. This notice is intended to inform the public of the pending application.

DATES: Comments on this action should be received by August 7, 2008.

ADDRESSES: Comments must be filed with Steven R. Wells, Deputy State Director, Division of Natural Resources, BLM—Eastern States, 7450 Boston Boulevard, Springfield, Virginia 22153.

FOR FURTHER INFORMATION CONTACT: Ida V. Doup, Chief, Branch of Lands and Realty, at the above stated address or at 703-440-1541.

SUPPLEMENTARY INFORMATION: Pursuant to Section 315 of the Federal Land Policy and Management Act of 1976 (43 U.S.C. 1745), the surface owner, Robert G. Hooper, filed an application for a Disclaimer of Interest for the land described as follows:

Fifth Principal Meridian

T. 16 N., R. 17 W.,

Sec. 1, NE¼NW¼.

The area described contains 43.57 acres, more or less, in Searcy County. The BLM—Eastern States' review of the land status records indicates that a patent was issued to R.B. Weaver, E.S. Weaver, R.F. King, H.C. King, and R.D. Ailly for the Eureka Placer Mine, Buffalo District, Final Certificate Number 24, dated November 28, 1893. A copy of the land patent certificate cannot be located. All available land status records indicate a patent has been issued and title has transferred into private ownership. It is the opinion of this office that the Federal Government no longer has an interest in this 43.57-acre tract. Robert G. Hooper, surface owner, is seeking to clear title to demonstrate that the United States has transferred ownership to the original patentee.

All persons who wish to present comments, suggestions, or objections in connection with the pending application and proposed disclaimer may do so by writing to Stephen R. Wells, Deputy Assistant Director, Division of Natural Resources at the above address. Comments, including names and street addresses of commentors, will be available for public review at the BLM-Eastern States Office (see address above), during regular business hours, Monday through Friday, except holidays. Before including your address, phone number, e-mail address, or other personal identifying information in your comment, you should be aware that your entire comment—including your personal identifying information—may be made publicly available at any time. While you can ask us in your comment to withhold your personal identifying information from public review, we cannot guarantee that we will be able to do so.

If no valid objection is received, this action will be approved and will clear a cloud on the title by stating that the United States does not have a valid interest in this land.

Authority: 43 CFR 1864.2(a).

Terry Lewis,
Acting State Director, Eastern States.

[FR Doc. E8-10365 Filed 5-8-08; 8:45 am]

BILLING CODE 4310-GJ-P